DEPARTMENT OF TRANSPORTATION

Coast Guard

33 CFR Part 117

[CGD01-02-091]

Drawbridge Operation Regulations: Passaic River, NJ

AGENCY: Coast Guard, DOT.

ACTION: Notice of temporary deviation from regulations.

SUMMARY: The Commander, First Coast Guard District, has issued a temporary deviation from the drawbridge operation regulations for the Amtrak Dock Bridge, mile 5.0, across the Passaic River at Harrison, New Jersey. This temporary deviation will allow the bridge to remain closed to navigation from 9 p.m. on July 26, 2002 through 5 a.m. on July 29, 2002, and from 9 p.m. on August 2, 2002 through 5 a.m. on August 5, 2002. This temporary deviation is necessary to facilitate repairs at the bridge.

DATES: This deviation is effective from 9 p.m. on July 26, 2002 through 5 a.m. on August 5, 2002.

FOR FURTHER INFORMATION CONTACT: Joe Arca, Project Officer, First Coast Guard District, at (212) 668-7165.

SUPPLEMENTARY INFORMATION: The bridge owner, National Passenger Railroad Corporation (Amtrak), requested a temporary deviation from the drawbridge operating regulations to facilitate necessary maintenance, to install new miter rails, bridge blocks, and other general maintenance, at the bridge. The performance of these repairs require the bridge to remain in the closed position.

Although the bridge owner did not provide the required thirty days notice to the Coast Guard prior to the effective date of this temporary deviation, the Coast Guard has approved this deviation because this work must be performed with undue delay to insure continued safe reliable operation of the bridge.

Under this temporary deviation the Amtrak Dock Bridge may remain closed to vessel traffic from 9 p.m. on July 26, 2002 through 5 a.m. on July 29, 2002, and from 9 p.m. on August 2, 2002 through 5 a.m. on August 5, 2002.

This deviation from the operating regulations is authorized under 33 CFR 117.35, and will be performed with all due speed in order to return the bridge to normal operation as soon as possible.

Dated: July 22, 2002.
V.S. Crea,
Rear Admiral, U.S. Coast Guard, Commander, First Coast Guard District.

[FR Doc. 02-19358 Filed 7-30-02; 8:45 am]

BILLING CODE 4910-15-P